DEPARTMENT OF LABOR

Office of the Secretary

Agency Information Collection Activities; Submission for OMB Review; Comment Request; Insurance and Annuity Contracts and Mutual Fund Principal Underwriters (PTE 1984-24); Correction

ACTION: Notice; correction.

SUMMARY: As required by the Paperwork Reduction Act, the Department of Labor published a document in the Federal Register of June 28, 2019, inviting public comments on the Insurance and Annuity Contracts and Mutual Fund Principal Underwriters (PTE 1984-24) Information Collection Request (84 FR 31114). The document contained an incorrect PTE reference.

FOR FURTHER INFORMATION CONTACT: Frederick Licari by telephone at 202-693-8073 (this is not a toll-free number) or by email to DOL_PRA_PUBLIC@dol.gov.

Correction

In the Federal Register of June 28, 2019 in FR Doc. 2019-13807 on page 31114 (84 FR 31114) in the second column, the correct PTE reference should be PTE 84-24 instead of PTE 75-1.

Dated: July 8, 2019.
Frederick Licari,
Departmental Clearance Officer.

[FR Doc. 2019-14807 Filed 7-11-19; 8:45 am]

BILLING CODE 4510-29-P